DEPARTMENT OF HEALTH AND HUMAN SERVICES

Health Resources and Services Administration

CDC/HRSA Advisory Committee on HIV, Viral Hepatitis and STD Prevention and Treatment

AGENCY: Health Resources and Service Administration (HRSA), Department of Health and Human Services (HHS).

ACTION: Notice of meeting.

SUMMARY: In accordance with the Federal Advisory Committee Act, notice is hereby given that a meeting is scheduled for the Centers for Disease Control and Prevention (CDC)/HRSA Advisory Committee on HIV, Viral Hepatitis and STD Prevention and Treatment. This meeting will be open to the public. Information about the CDC/HRSA Advisory Committee on HIV, Viral Hepatitis and STD Prevention and Treatment and the agenda for this meeting can be obtained by contacting CDR Holly Berilla at (301) 443-9965 or hberilla@hrsa.gov.

DATES: October 25, 2017, 9:00 a.m. to 5:30 p.m. (Eastern) and October 26, 2017, 9:00 a.m. to 4:15 p.m. (Eastern).

ADDRESSES: This meeting will be held in person and offer virtual access through teleconference and Adobe Connect. The address for the meeting is 5600 Fishers Lane, Pavilion, Rockville, Maryland 20857. The conference call-in number is (888) 469-0566 and passcode is 6012320. The webinar link is https://hrsa.connectsolutions.com/october_chac_meeting/.

FOR FURTHER INFORMATION CONTACT: Those requesting information regarding the CDC/HRSA Advisory Committee on HIV, Viral Hepatitis and STD Prevention and Treatment should contact CDR Holly Berilla, Senior Public Health Analyst, Division of Policy and Data (DPD), HIV/AIDS Bureau (HAB), HRSA, in one of three ways: (1) Mail a request to CDR Holly Berilla, Senior Public Health Analyst, HRSA/HAB/DPD, 5600 Fishers Lane, 9N164C, Rockville, Maryland 20857; (2) call (301) 443-9965; or (3) send an email to hberilla@hrsa.gov.

SUPPLEMENTARY INFORMATION: The CDC/HRSA Advisory Committee on HIV, Viral Hepatitis and STD Prevention and Treatment was established under Section 222 of the Public Health Service Act, [42 U.S.C. Section 217a], as amended.

The purpose of the CDC/HRSA Advisory Committee on HIV, Viral Hepatitis and STD Prevention and Treatment is to advise the Secretary of HHS, the Director of CDC, and the Administrator of HRSA regarding objectives, strategies, policies, and priorities for HIV, viral hepatitis, and other STDs; prevention and treatment efforts including surveillance of HIV infection, AIDS, viral hepatitis and other STDs, and related behaviors; epidemiologic, behavioral, health services, and laboratory research on HIV/AIDS, viral hepatitis, and other STDs; identification of policy issues related to HIV/viral hepatitis/STD professional education, patient healthcare delivery, and prevention services; HHS policies about prevention of HIV/AIDS, viral hepatitis and other STDs; treatment, healthcare delivery, and research and training; strategic issues influencing the ability of CDC and HRSA to fulfill their missions of providing prevention and treatment services; programmatic efforts to prevent and treat HIV, viral hepatitis, and other STDs; and support to CDC and HRSA in their development of responses to emerging health needs related to HIV, viral hepatitis, and other STDs.

During the October 25 to 26, 2017, meeting, the CDC/HRSA Advisory Committee on HIV, Viral Hepatitis and STD Prevention and Treatment will discuss strategies to link, retain, and re-engage people living with HIV into the Ryan White HIV/AIDS Program system of care; HAB's benchmarking and risk adjustment initiatives; HRSA and CDC initiatives regarding congenital syphilis; and committee workgroup reports. Agenda items are subject to change as priorities dictate.

Members of the public will have the opportunity to provide comments. Oral comments will be honored in the order they are requested and may be limited as time allows. Requests to make oral comments or provide written comments to the CDC/HRSA Advisory Committee on HIV, Viral Hepatitis and STD Prevention and Treatment should be sent to CDR Holly Berilla, using the contact information listed above, by October 11, 2017.

The building at 5600 Fishers Lane, Rockville, MD 20857, requires a security screening on entry. To facilitate your access to the building please contact CDR Holly Berilla (contact information provided above). Individuals who plan to attend and need special assistance, such as sign language interpretation or other reasonable accommodations, should notify CDR Holly Berilla (contact information provided above) at least 10 days prior to the meeting.

Status: This advisory committee meeting will be open to the public.

Amy McNulty,
Acting Director, Division of the Executive Secretariat.

[FR Doc. 2017-18426 Filed 8-29-17; 8:45 am]

BILLING CODE 4165-15-P